DEPARTMENT OF ENERGY

Federal Energy Regulatory Commission

[Docket No. ER01-1721-001, et al.]

Entergy Nuclear Indian Point 2, LLC, et al.; Electric Rate and Corporate Regulation Filings

June 25, 2001.

Take notice that the following filings have been made with the Commission:

1. Entergy Nuclear Indian Point 2, LLC

[Docket No. ER01-1721-001]

Take notice that on June 21, 2001, Entergy Nuclear Indian Point 2, LLC (“ENIP2”) tendered for filing a designation for a long term power purchase agreement and revised tariff sheets to ENIP2's FERC Electric Tariff, Original Volume No.1 in compliance with the Letter Order issued on May 24, 2001 in this Docket No. ER01-1721-000. The tariff revision incorporates a prohibition on power purchases from any affiliated public utility with a franchised service territory absent a rate filing under Section 205 of the Federal Power Act.

Comment date: July 12, 2001, in accordance with Standard Paragraph E at the end of this notice.

2. Wildflower Energy LP

[Docket No. ER01-1822-000]

Take notice that on June 21, 2001, Wildflower Energy LP (Wildflower) submitted a redesignated rate schedule, in compliance with the Commission's order in this docket issued on June 12, 2001.

Comment date: July 12, 2001, in accordance with Standard Paragraph E at the end of this notice.

3. Caithness Energy Marketing, LLC

[Docket No. ER01-2353-000]

Caithness Energy Marketing, LLC (Caithness Marketing) petitioned the Commission on June 19, 2001, for authority to sell electricity at market-based rates under Section 205(a) of the Federal Power Act, 16 U.S.C. § 824d(a); for the granting of certain blanket approvals and for the waiver of certain Commission regulations. Caithness Marketing is a Delaware limited liability company that proposes to engage in the wholesale sale of electric power.

Comment date: July 10, 2001, in accordance with Standard Paragraph E at the end of this notice.

4. Xcel Energy Services Inc.

[Docket No. ER01-2356-000]

Take notice that on June 19, 2001, Xcel Energy Services Inc.(XES), on behalf of Southwestern Public Service Company (Southwestern), submitted for filing a Service Agreement between Southwestern and Midwest Energy, Inc., which is an umbrella service agreement under Southwestern's Rate Schedule for Market-Based Power Sales (FERC Electric Tariff, Second Revised Volume No. 3).

XES requests that this agreement become effective on May 29, 2001.

Comment date: July 10, 2001, in accordance with Standard Paragraph E at the end of this notice.

5. Xcel Energy Operating Companies, Northern States Power Company, Northern States Power Company,(Wisconsin)

[Docket No. ER01-2358-000]

Take notice that on June 19, 2001, Northern States Power Company and Northern States Power Company (Wisconsin) (jointly NSP), wholly-owned utility operating company subsidiaries of Xcel Energy Inc., tendered for filing a Non-Firm and a Short-Term Firm Point-to-Point Transmission Service Agreement between NSP and Axia Energy, LP. NSP proposes the Agreements be included in the Xcel Energy Operating Companies FERC Joint Open Access Transmission Tariff, Original Volume No. 1, as Service Agreements 189-NSP and 190-NSP, pursuant to Order No. 614.

NSP requests that the Commission accept the agreement effective May 19, 2001, and requests waiver of the Commission's notice requirements in order for the agreements to be accepted for filing on the date requested.

Comment date: July 10, 2001, in accordance with Standard Paragraph E at the end of this notice.

6. Portland General Electric Company

[Docket No. ER01-2359-000]

Take notice that on June 19, 2001, Portland General Electric Company (PGE) filed revised tariff sheets to its Open Access Transmission Tariff. The revised sheets are intended: (1) to clarify that Energy Service Suppliers under Oregon's retail access provisions are deemed to be eligible customers; and (2) to revise PGE's Energy Imbalance provisions to require payments for imbalances based on the market price of energy.

PGE requests that the Commission make the revised tariff sheets effective as of September 1, 2001.

Comment date: July 10, 2001, in accordance with Standard Paragraph E at the end of this notice.

7. Northern Indiana Public Service Company

[Docket No. ER01-2360-000]

Take notice that on June 19, 2001, Northern Indiana Public Service Company tendered for filing an executed Standard Transmission Service Agreement for Non-Firm Point-to-Point Transmission Service between Northern Indiana Public Service Company and Exelon Generation Company, LLC (Exelon). Copies of this filing have been sent to Exelon Generation Company, LLC the Indiana Utility Regulatory Commission, and the Indiana Office of Utility Consumer Counselor.

Under the Transmission Service Agreement, Northern Indiana Public Service Company will provide Non-Firm Point-to-Point Transmission Service to Exelon pursuant to the Transmission Service Tariff filed by Northern Indiana Public Service Company in Docket No. OA96-47-000 and allowed to become effective by the Commission. Northern Indiana Public Service Company has requested that the Service Agreement be allowed to become effective as of June 20, 2001.

Comment date: July 10, 2001, in accordance with Standard Paragraph E at the end of this notice.

8. Northern Indiana Public Service Company

[Docket No. ER01-2361-000]

Take notice that on June 19, 2001, Northern Indiana Public Service Company tendered for filing an executed Standard Transmission Service Agreement for Non-Firm Point-to-Point Transmission Service between Northern Indiana Public Service Company and Mirant Americas Energy Marketing, LP (Mirant).Copies of this filing have been sent to Mirant Americas Energy Marketing, LP, the Indiana Utility Regulatory Commission, and the Indiana Office of Utility Consumer Counselor.

Under the Transmission Service Agreement, Northern Indiana Public Service Company will provide Non-Firm Point-to-Point Transmission Service to Mirant pursuant to the Transmission Service Tariff filed by Northern Indiana Public Service Company in Docket No. OA96-47-000 and allowed to become effective by the Commission. Northern Indiana Public Service Company has requested that the Service Agreement be allowed to become effective as of June 20, 2001.

Comment date: July 10, 2001, in accordance with Standard Paragraph E at the end of this notice.

9. Old Dominion Electric Cooperative

[Docket No. ES01-38-000]

Take notice that on June 15, 2001, Old Dominion Electric Cooperative (Old Dominion) submitted an application pursuant to section 204 of the Federal Power Act seeking authorization to issue mortgage bonds in an amount not exceeding an aggregate of $250 million.

Old Dominion also requests a waiver of the Commission's competitive bidding and negotiated placement requirements at 18 CFR 34.2.

Comment date: July 11, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the Comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-16503 Filed 6-29-01; 8:45 am]

BILLING CODE 6717-01-P